DEPARTMENT OF TRANSPORTATION

Federal Motor Carrier Safety Administration

[Docket No. FMCSA-2006-26367]

Medical Review Board Advisory Committee; Charter Renewal

AGENCY: Federal Motor Carrier Safety Administration (FMCSA), Department of Transportation (DOT).

ACTION: Announcement of Charter Renewal of the Medical Review Board Advisory Committee (MRB).

SUMMARY: FMCSA announces the charter renewal of the MRB, a Federal Advisory Committee that provides the Agency with medical advice and recommendations on medical standards and guidelines for the physical qualifications of operators of commercial motor vehicles (CMVs), medical examiner education, and medical research. This charter renewal took effect on November 25, 2017, and will expire after 2 years.

FOR FURTHER INFORMATION CONTACT: Ms. Shannon L. Watson, Senior Advisor to the Associate Administrator for Policy, Federal Motor Carrier Safety Administration, U.S. Department of Transportation, 1200 New Jersey Avenue SE., Washington, DC 20590, (202) 366-2551, mrb@dot.gov.

SUPPLEMENTARY INFORMATION: Pursuant to Section 10(a)(2) of the Federal Advisory Committee Act (Pub. L. 92-463), FMCSA is giving notice of the charter renewal for the MRB. The MRB was established to provide FMCSA with medical advice and recommendations on medical standards and guidelines for the physical qualifications of operators of CMVs, medical examiner education, and medical research.

The MRB is composed of five members selected from medical institutions and private practice. The membership shall reflect expertise in a variety of medical specialties relevant to the driver fitness requirements of the Federal Motor Carrier Safety Administration. See the MRB's Web site for details on pending tasks at http://www.fmcsa.dot.gov/mrb.

Issued on: November 30, 2017.
Larry W. Minor,
Associate Administrator for Policy.

[FR Doc. 2017-26371 Filed 12-6-17; 8:45 am]

BILLING CODE 4910-EX-P